DEPARTMENT OF TRANSPORTATION

Federal Aviation Administration

Notice of Passenger Facility Charge (PFC) Approvals and Disapprovals

AGENCY: Federal Aviation Administration (FAA), DOT.

ACTION: Monthly Notice of PFC Approvals and Disapprovals. In November 2009, there were two applications approved. This notice also includes information on one application, approved in October 2009, inadvertently left off the October 2009 notice. Additionally, five approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR part 158). This notice is published pursuant to paragraph d of § 158.29.

PFC Applications Approved

Public Agency: Port of Oakland, Oakland, California.

Application Number: 09-14-C-00-OAK.

Application Type: Impose and use a PFC.

PFC Level: $4.50.

Total PFC Revenue Approved in this Decision: $293,219,000.

Earliest Charge Effective Date: March 1, 2011.

Estimated Charge Expiration Date: April 1, 2021.

Class of Air Carriers Not Required To Collect PFC's: Nonscheduled/on-demand air carriers filing FAA Form 1800-31.

Determination: Approved. Based on information contained in the public agency's application, the FAA has determined that the approved class accounts for less than 1 percent of the total annual enplanements at Metropolitan Oakland International Airport.

Brief Description of Projects Approved for Collection and Use at a $4.50 PFC Level:

Terminal 1 rehabilitation and retrofit program.

Passenger boarding bridges.

Runway 11/29 light collar replacement.

East apron improvements, phases I and II.

East apron improvements, phase III.

Runway safety area improvements, phases I and II.

Rehabilitate taxiway B.

Rehabilitate taxiway W.

Security enhancements at terminal 2.

Security enhancements for taxiway B overpass.

Lighting control to a new air traffic control tower.

Aircraft rescue and firefighting vehicles.

Closed circuit television program expansion—phases II and Ill.

Brief Description of Projects Approved for Collection and Use at a $3.00 PFC Level:

Americans with Disabilities Act access improvements.

Terminal 2 roof replacement.

Perimeter airfield dike seismic enhancement study.

Airport security enhancements—security assessment study.

Noise monitoring system upgrade.

PFC administrative costs.

Owner-controlled insurance for terminal 2 improvements.

Decision Date: October 23, 2009.

FOR FURTHER INFORMATION CONTACT: Gretchen Kelly, San Francisco Airports District Office, (650) 876-2778, extension 623.

Public Agency: Rhode Island Airport Corporation, Warwick, Rhode Island.

Application Number: 09-06-C-00-PVD.

Application Type: Impose and use a PFC. PFC Level: $4.50.

Total PFC Revenue Approved in this Decision: $15,832,980.

Earliest Charge Effective Date: May 1, 2015.

Estimated Charge Expiration Date: November 1, 2016.

Class of Air Carriers Not Required To Collect PFC's:

Air taxi/commercial operators.

Determination: Approved. Based on information contained in the public agency's application, the FAA has determined that the approved class accounts for less than I percent of the total annual enplanements at T. F. Green Airport.

Brief Description of Projects Approved for Collection and Use at a $4.50 PFC Level:

Acquire land for noise mitigation.

Extend, mark and light taxiway M.

Brief Description of Projects Approved for Collection and Use at a $3.00 PFC Level:

Final environmental impact statement.

Taxiway N rehabilitation.

PFC implementation and administration assistance.

Decision Date: November 13, 2009.

For Further Information Contact: Priscilla Scoff, New England Region Airports Division, (781) 238-7614.

Public Agency: Grand Forks Regional Airport Authority, Grand Forks, North Dakota.

Application Number: 10-08-C-00-GFK.

Application Type: Impose and use a PFC.

PFC Level: $4.50.

Total PFC Revenue Approved in this Decision: $2,700,456.

Earliest Charge Effective Date: February 1, 2010.

Estimated Charge Expiration Date: August 1, 2017.

Class of Air Carriers Not Required To Collect PFC's: Air taxi/commercial operators filing FAA Form 1800-31.

Determination: Approved. Based on information contained in the public agency's application, the FAA has determined that the approved class accounts for less than 1 percent of the total annual enplanements at Grand Forks International Airport.

Brief Description of Project Partially Approved for Collection and Use: Construction of new passenger terminal building and air carrier apron.

Determination: Partially approved for collection and use. The FAA determination that portions of the project were not PFC-eligible.

Decision Date: November 19, 2009.

For Further Information Contact: Thomas Schauer, Bismarck Airports District Office, (701) 323-7383.

Amendment to PFC Approvals
Amendment No., city, state | Amendment approved date | Original approved net PFC revenue | Amended approved net PFC revenue | Original estimated charge exp. date | Amended estimated charge exp. date
98-05-C-04-MEI, Meridian, MS | 10/30/09 | $234,082 | $231,037 | 09/01/02 | 09/01/02
99-06-C-03-MEI, Meridian, MS | 10/30/09 | 148,000 | 105,760 | 05/01/04 | 05/01/04
06-11-C-01-EYW, Key West, FL | 11/05/09 | 48,440,445 | 11,882,511 | 12/01/37 | 08/01/15
06-11-C-02-EYW, Key West, FL | 11/10/09 | 11,882,51 | 11,929,058 | 11/01/16 | 09/01/15
06-03-C-01-ABQ, Albuquerque, NM | 11/10/09 | 66,066,726 | 68,885,899 | 07/01/15 | 07/01/16

Issued in Washington, DC, on December 11, 2009.
Joe Hebert,
Manager, Financial Analysis and Passenger Facility Charge Branch.

[FR Doc. E9-30206 Filed 12-18-09; 8:45 am]

BILLING CODE 4910-13-M